DEPARTMENT OF JUSTICE

Notice of Lodging of a Consent Decree Pursuant to the Clean Water Act

Notice is hereby given that a proposed Consent Decree in United States of America and the State of Tennessee v. Metropolitan Government of Nashville and Davidson County, Civ. No. 3:07-CV-1056 was lodged on October 24, 2007, with the United States District Court for the Middle District of Tennessee, Nashville Division.

The proposed Consent Decree would resolve certain claims under Sections 301 and 402 of the Clean Water Act, 33 U.S.C. 1251, et seq., against the Metropolitan Government of Nashville and Davidson County (“Metro”), through the performance of injunctive measures, the payment of a civil penalty, and the performance of Supplemental Environmental Projects (“SEPs”). The United States, and the State of Tennessee, which has filed its own complain against Metro (State of Tennessee v. Metropolitan Government of Nashville and Davidson County, Civ. No. 3:07-CV-1057 (USDA M.D. TN)), allege that Metro is liable as a person who has discharged a pollutant from a point source to navigable water of the United States without a permit and, in some cases, in excess of permit limitations.

The proposed Consent Decree would resolve the liability of Metro for the violations alleged in the complaints filed in these matters. To resolve these claims, Metro would perform the injunctive measures as descried in the proposed Consent Decree; would pay a civil penalty of $564,038 ($282,019 to the United States Treasury and $282,019 to the State of Tennessee which will use the money to fund the Cumberland River Compact); and would perform SEPs valued at $2.8 million, which involves the extension of sewer service to areas currently served only by septic systems. The Department of Justice will receive comments relating to the proposed Consent Decree for a period of thirty (30) days from the date of this publication. Comments should be addressed to the Assistant Attorney General, Environment and Natural Resources Division, and either e-mailed to pubcomment.ees.enrd@usdoj.gov or mailed to P.O. Box 7611, U.S. Department of Justice, Washington, DC 20044-7611 and should refer to United States of America and the State of Tennessee v. Metropolitan Government of Nashville and Davidson County, DJ No. 90-5-1-09000.

The proposed Consent Decree may be examined at the Region 4 Office of the Environmental Protection Agency, Atlanta Federal Center, 61 Forsyth Street, SW., Atlanta, GA 30303 or the United States Attorney's Office for the Middle District of Tennessee, 110 Ninth Avenue South, Suite A61, Nashville, TN 37203. During the public comment period, the decree may also be examined on the following Department of Justice Web site http://www.usdoj.gov/enrd/open.html. A copy of the decree may also be obtained by mail from the Consent Decree Library, P.O. Box 7611, U.S. Department of Justice, Washington, DC 20044-7611, or by faxing or a-mailing a request to Tonia Fleetwood (tonia.fleetwood@usdoj.gov), fax no. (202) 514-0097, phone information number (202) 514-1547. In requesting a copy from the Consent Decree Library, please refer to United States of America and the State of Tennessee v. Metropolitan Government of Nashville and Davidson County, (proposed Consent Decree, DOJ Ref. No. 90-5-1-1-09000), and enclose a check in the amount of $68.50 (25 cents per page reproduction cost) payable to the U.S. Treasury or, if by e-mail or fax, forward a check in that amount to the Consent Decree Library at the stated address.

Henry S. Friedman,
Assistant Section Chief, Environmental Enforcement Section, Environment and Natural Resources Division.

[FR Doc. 07-5416 Filed 10-30-07; 8:45 am]

BILLING CODE 4410-15-M